DEPARTMENT OF AGRICULTURE

Forest Service

Southwest Mississippi Resource Advisory Committee

AGENCY: Forest Service, USDA.

ACTION: Meeting notice for the Southwest Mississippi Resource Advisory Committee under Section 205 of the Secure Rural Schools and Community Self Determination Act of 2000 (Pub. L. 106-393).

SUMMARY: This notice is published in accordance with section 10(a)(2) of the Federal Advisory Committee Act. Meeting notice is hereby given for the Southwest Mississippi Resource Advisory Committee pursuant to Section 205 of the Secure Rural Schools and Community Self Determination Act of 2000, Public Law 106-393. Topics to be discussed include: general information, possible Title II projects, and the next meeting dates and agendas.

DATES: The meeting will be held on March 22, 2005, from 6 p.m. and end at approximately 9 p.m.

ADDRESSES: The meeting will be held at the Franklin County Public Library, 381 First Street, Meadville, Mississippi.

FOR FURTHER INFORMATION CONTACT: Mary Bell Lunsford, Public Affairs Officer, USDA, Homochitto National Forest, 1200 Hwy. 184 East, Meadville, MS 39653 (601-384-5876)

SUPPLEMENTARY INFORMATION: The meeting is open to the public. Committee discussion is limited to Forest Service staff, Committee members and elected officials. However, persons who wish to bring matters to the attention of the Committee may file written statements with the Committee staff before or after the meeting. A public input session will be provided and individuals who made written requests by March 11, 2005, will have the opportunity to address the committee at that session. Individuals wishing to speak or propose agenda items must send their names and proposals to Tim Reed, District Ranger, DFO, 1200 Hwy. 184 East, Meadville, MS 39653.

Dated: February 4, 2005.
Tim Reed,
Designated Federal Officer.

[FR Doc. 05-2748 Filed 2-11-05; 8:45 am]

BILLING CODE 3410-52-M